SURFACE TRANSPORTATION BOARD

[Docket No. FD 36638]

Pioneer Industrial Railway Co.—Change in Operator Exemption—in Peoria County, Ill.

Pioneer Industrial Railway Company (Pioneer), a Class III rail carrier, has filed a verified notice of exemption pursuant to 49 CFR 1150.41 to assume operations over two interconnected railroad lines (collectively, the Lines) owned by, and located entirely within, the City of Peoria, Ill. (City). The first line, the Western Connection, is about 2.24 miles long and extends from a point of connection with the Peoria Subdivision of the Union Pacific Railroad Company at approximately milepost 71.5 to a point a short distance west of University Avenue in the City, then extends another 1,800 feet to a point of connection between the Western Connection and the Kellar Branch. The second line, the North Line, is an approximately 1.5-mile portion of the Kellar Branch between milepost 8.50 and milepost 10.0. The Lines total approximately 3.75 route miles.

Pioneer certifies that it has entered into a lease agreement with the City to assume leasehold operations over the Lines in place of the prior lessee, the Central Illinois Railroad Company (CIRY), which obtained Board authority to operate the Lines in 2005.¹ The verified notice, as supported by a verified statement by CIRY's former Controller, indicates Pioneer's understanding that in 2011 CIRY was involuntarily dissolved as a business and ceased providing rail service in 2010. CIRY's contract with the City to operate the Lines was terminated. Additionally, prior to its dissolution, CIRY reportedly intended to obtain authority to discontinue service over all of its lines but, through oversight or administrative error, failed to do so with respect to these Lines. Pioneer further states that it cannot locate CIRY's prior owners.

¹ Cent. Ill. R.R.—Operation Exemption—Rail Lines of the City of Peoria, Ill., FD 34518, et al. (STB served Feb. 23, 2005).

Pioneer confirms, as required under 49 CFR 1150.43(h), that the proposed transaction does not involve a provision or agreement that may limit future interchange with a third-party connecting carrier. Pioneer also certifies that its projected annual revenues will not result in the creation of a Class I or II rail carrier or exceed $5 million as a result of this transaction.

Under 49 CFR 1150.42(b), a change in operator requires that notice be given to shippers. Pioneer certifies that it has provided notice of the proposed change in operator to Carver Lumber, the only potential shipper on the Lines, and the verified notice includes a letter from Carver Lumber in support of this transaction.

The transaction may be consummated on or after November 2, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than October 26, 2022 (at least seven days before the exemption becomes effective).

All pleadings, referring to Docket No. FD 36638, must be filed with the Surface Transportation Board either via e-filing on the Board's website or in writing addressed to 395 E Street SW, Washington, DC 20423-0001. In addition, a copy of each pleading must be served on Pioneer's representative, Robert A. Wimbish, Fletcher & Sippel LLC, 29 North Wacker Drive, Suite 800, Chicago, IL 60606-3208.

According to Pioneer, this action is categorically excluded from environmental review under 49 CFR 1105.6(c) and from historic preservation reporting requirements under 49 CFR 1105.8(b).

Board decisions and notices are available at www.stb.gov.

Decided: October 14, 2022.
By the Board, Mai T. Dinh, Director, Office of Proceedings.
Jeffrey Herzig,
Clearance Clerk.

[FR Doc. 2022-22694 Filed 10-18-22; 8:45 am]

BILLING CODE 4915-01-P